GENERAL SERVICES ADMINISTRATION

[OMB Control No. 3090-0080]

[Docket No. 2024-0001; Sequence No. 4]

Submission for OMB Review; General Services Administration Acquisition Regulation; Release of Claims for Construction and Building Service Contracts

AGENCY: Office of Acquisition Policy, General Services Administration (GSA).

ACTION: Notice.

SUMMARY: Under the provisions of the Paperwork Reduction Act, the Regulatory Secretariat Division will be submitting to the Office of Management and Budget (OMB) a request to review and approve an extension of a previously approved information collection regarding release of claims for final payment under construction and building services contracts.

DATES: Submit comments on or before: September 3, 2024.

ADDRESSES: Written comments and recommendations for this information collection should be sent within 30 days of publication of this notice to www.reginfo.gov/public/do/PRAMain. Find this particular information collection by selecting “Currently under Review—Open for Public Comments” or by using the search function.

FOR FURTHER INFORMATION CONTACT: Mr. Bryon Boyer, Procurement Analyst, at gsarpolicy@gsa.gov or 817-850-5580.

SUPPLEMENTARY INFORMATION:

A. Purpose

The General Services Administration Acquisition Regulation (GSAR) requires construction and building services contractors to submit a release of claims before final payment is made to ensure contractors are paid in accordance with their contract requirements and for work performed. GSA Form 1142, Release of Claims is used to achieve uniformity and consistency in the release of claims process.

B. Annual Reporting Burden

Respondents: 1,427.

Responses per Respondent: 1.

Annual Responses: 1,427.

Hours per Response: 0.50.

Total Burden Hours: 714.

C. Public Comments

A 60-day notice was published in the Federal Register at 89 FR 42470 on May 15, 2024. No comments were received.

Obtaining Copies of Proposals: Requesters may obtain a copy of the information collection documents from the Regulatory Secretariat Division (MVCB), at GSARegSec@gsa.gov. Please cite OMB Control No. 3090-0080; Release of Claims for Construction and Building Service Contracts, in all correspondence.

Jeffrey A. Koses,
Senior Procurement Executive, Office of Acquisition Policy, Office of Government-wide Policy.

[FR Doc. 2024-16981 Filed 7-31-24; 8:45 am]

BILLING CODE 6820-61-Pd